DEPARTMENT OF HEALTH AND HUMAN SERVICES

Food and Drug Administration

[Docket No. FDA-2015-N-0001]

Surrogate Endpoints for Clinical Trials in Kidney Transplantation; Notice of Public Workshop; Correction

AGENCY: Food and Drug Administration, HHS.

ACTION: Notice; correction.

SUMMARY: The Food and Drug Administration (FDA) is correcting a notice that appeared in theFederal Register of Monday, August 3, 2015 (80 FR 45999). The document announced a public workshop entitled “Surrogate Endpoints for Clinical Trials in Kidney Transplantation.” The document was published without the email address and fax number in the Contact Person section and without the option for email or phone registration in the Registration section. This document corrects those errors.

FOR FURTHER INFORMATION CONTACT: Ramou Pratt, Center for Drug Evaluation and Research, Food and Drug Administration, 10903 New Hampshire Ave., Bldg. 22, Rm. 6193, Silver Spring, MD 20993-0002, 301-796-3928 or 301-796-1600, FAX: 301-595-7993, endpoints@fda.hhs.gov.

SUPPLEMENTARY INFORMATION: In FR Doc. 2015-18911, appearing on page 45999 in the Federal Register of Monday, August 3, 2015, the following corrections are made:

1. On page 45999, in the first column, the Contact Person section is corrected to read: “Contact Person: Ramou Pratt, Center for Drug Evaluation and Research, Food and Drug Administration, 10903 New Hampshire Ave., Bldg. 22, Rm. 6193, Silver Spring, MD 20993-0002, 301-796-3928 or 301-796-1600, FAX: 301-595-7993, endpoints@fda.hhs.gov.”

2. On page 45999, in the second column, the Registration section is corrected to read: “Registration: Email, fax, or phone your registration information (including name, title, firm name, address, telephone and fax numbers) to Ramou Pratt (see Contact Person) by September 25, 2015. Registration is free for the public workshop. Early registration is recommended because seating is limited. Registration on the day of the public workshop will be provided on a space-available basis beginning at 8 a.m.

If you need special accommodations because of a disability, please contact Ramou Pratt (see Contact Person) at least 7 days in advance.”

Dated: August 19, 2015.
Leslie Kux,
Associate Commissioner for Policy.

[FR Doc. 2015-20832 Filed 8-21-15; 8:45 am]

BILLING CODE 4164-01-P